DEPARTMENT OF THE INTERIOR

Fish and Wildlife Service

50 CFR Part 17

RIN 1018-AE92

Endangered and Threatened Wildlife and Plants; Establishment of Nonessential Experimental Population Status for 16 Freshwater Mussels and 1 Freshwater Snail (Anthony's Riversnail) in the Free-Flowing Reach of the Tennessee River below the Wilson Dam, Colbert and Lauderdale Counties, AL; Correction

AGENCY: Fish and Wildlife Service, Interior.

ACTION: Final rule; correction.

SUMMARY: The Fish and Wildlife Service (Service) published in the Federal Register of June 14, 2001, a document concerning the establishment of nonessential experimental population status for 16 freshwater mussels and 1 freshwater snail (Anthony's Riversnail) in the free-flowing reach of the Tennessee River below the Wilson Dam, Colbert and Lauderdale Counties, AL. The “When Listed” numbers in the table of species information was inadvertently omitted in the rule. This correction amends that table to include the “When Listed” numbers.

DATES: Effective on August 21, 2001.

FOR FURTHER INFORMATION CONTACT: Dr. Renne Lohoefner at 703/358-2171; facsimile 703/358-1735; and e-mail Renne_Lohoefener@fws.gov.

SUPPLEMENTARY INFORMATION: The Service published a document in the Federal Register of June 14, 2001, (66 FR 32250) that inadvertently omitted the “When Listed” numbers in the table of species information provided in the rule. This correction amends the table to include the previously missing “When Listed” numbers.

The number 709 represents the “When Listed” number for each of the 16 Federally listed freshwater mussel species and the 1 Federally listed freshwater snail species. The “When Listed” numbers correspond to footnotes at the end of 50 CFR 17.11 and 17.12 that indicate the date and Federal Register citation of when animal and plant species were added to the “List of Endangered and Threatened Wildlife.”

In rule FR Doc. 01-14878 published on June 14, 2001, (66 FR 32250) make the following corrections. On page 32258 through page 32263, the series of periods (........) found in the “When Listed” column (column 5) of the species information table should be removed and replaced with the number 709.

Dated: July 24, 2001.
Joseph E. Doddridge,
Acting Assistant Secretary for Fish and Wildlife and Parks.

[FR Doc. 01-21071 Filed 8-20-01; 8:45 am]

BILLING CODE 4310-55-P